DEPARTMENT OF VETERANS AFFAIRS

[OMB Control No. 2900-0782]

Revision to a Previously Approved Information Collection (Veterans Benefits Administration (VBA) Voice of the Veteran (VOV) Customer Satisfaction Continuous Measurement Survey)

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 23, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0782” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0782.”

SUPPLEMENTARY INFORMATION:

Title: Voice of the Veteran (VOV) Customer Satisfaction Continuous Measurement Survey.

OMB Control Number: 2900-0782.

Type of Review: Revision of a currently approved collection.

Abstract: In 2008, VBA recognized a need to develop and design an integrated, comprehensive Voice of the Veteran (VOV) Continuous Measurement (CM) program for its lines of business: Compensation Service (CS), Pension Service (PS), Education (EDU) Service, Loan Guaranty (LGY) Service and Vocational Rehabilitation and Employment (VR&E) Service. The VOV CM program provides insight regarding Veterans and beneficiaries interactions with the benefits and services provided by VBA. The VOV CM provides VBA leadership with actionable Veteran feedback on how VBA is performing. These insights help identify opportunities for improvement and measure the impact of improvement initiatives.

VBA conducted a benchmark study in Fiscal Year 2013 (October 2012 through January 2013) in order to validate the survey instruments, identify Key Performance Indicators, and establish performance benchmarks. Findings and recommendations were presented to VBA Leadership and stakeholders within each line of business in April 2013.

Based on interviews conducted, VBA has separated the Veterans experience with VBA into two categories:

1. Access to a Benefit. This measures the enrollment experience transaction with the beneficiary or Veteran.

2. Servicing of a Benefit. This measures the ongoing relationship experiences with the beneficiary or Veteran.

Each business line desired to understand the components of the overall customer experience. Each VBA business line wanted to engage their Veteran population with relevant questions regarding their experience. The following outlines how that is approached with each of the lines of business.

The Federal Register Notice with a 60-day comment period soliciting comments on this collection of information was published at Vol. 81, No. 187 on September 27, 2016, at pages 66328-66329.

Affected Public: Individuals or households.

Compensation and Pension Programs

During 2014 J.D. Power fielded three survey instruments for the Compensation and Pension programs. Discussions with stakeholders from both programs indicated that one survey instrument could be used for both Compensation and Pension Enrollment category claimants. In FY2015, Compensation and Pension identified the need to separate the Enrollment survey to better serve the business needs of each program.

The Compensation Enrollment survey pool for the VOV Continuous Measurement Study includes individuals who have received a decision on a compensation benefit claim within 30 days prior to the fielding period. This includes those who were found eligible on a new or subsequent claim and those who have been denied and lack a current appeal of the decision. The Pension Enrollment survey pool includes individuals who have received a decision on a pension benefit claim within the past 30 days. The Compensation Servicing survey pool includes individuals who received a decision and are receiving benefit payments. The Pension Servicing survey pool includes individuals who established and completed a claim in the previous fiscal year.

Education Program

J.D. Power fielded two survey instruments for Education Service. The Education Enrollment survey pool includes individuals who received a decision on their education benefit application within 90 days (i.e., the original end-product was cleared within the past 90 days) prior to the fielding period. The Education Servicing survey pool includes beneficiaries who are currently receiving benefits. The definition of those receiving benefits varies based on the educational program. Chapter 33 beneficiaries who have received at least 2 payments for “tuition” in the past 9 months are included in the survey pool. Chapter 30, Chapter 1606, and Chapter 1607 beneficiaries who have received 5 monthly payments during the past 9 months are included.

Loan Guaranty and Specially Adapted Housing Programs

J.D. Power fielded two survey instruments for Loan Guaranty Service. The survey pool for the tracking study for the LGY Enrollment questionnaire includes individuals from a 30 day period who closed on a VA home loan in the 90 days prior to the fielding period. The sample is stratified as follows: (1) Those who closed on purchase loans, (2) those who received loans for interest rate reductions, and (3) those who obtained cash out or other refinancing. The survey pool for the tracking study for the SAH Servicing questionnaire includes individuals who are eligible for a specially adapted housing grant and in the past 12 months have: (1) Received an approval on their grant and are currently somewhere in post-approval, (2) have had all their funds dispersed and final accounting is not yet complete, and (3) have had all of their funds dispersed and final accounting is complete.

Vocational Rehabilitation and Employment Program

J.D. Power fielded three survey instruments for Vocational Rehabilitation & Employment Service (VR&E). The VR&E Enrollment survey pool includes individuals who applied within the last 12 months, entered Evaluation and Planning and (1) entered any of the following case statuses: Extended Evaluation, Independent Living (IL), Rehabilitation to Employment (RTE), or Job Ready Status (JRS) (excludes re-applicants), or (2) were found not entitled. The VR&E Servicing survey pool includes individuals who in the last 30 days were in a plan of services for more than 60 days, all rehabilitated participants, and MRGs. Participants who interrupted their plan are excluded. The VR&E Non-Participant survey explores why eligible individuals chose not to pursue the benefit entitlement. The VR&E Non-Participant questionnaire survey pool includes individuals who dropped out of the program prior to completing a rehabilitation plan. The sample is stratified as follows: (1) Applicants who never attended the initial meeting with a counselor, (2) applicants who were entitled to the program but did not pursue a plan of service, and (3) applicants who started, but did not complete a rehabilitation plan (i.e., negative closures).

The complete survey methodology is available as a supplemental document to this information collection: Voice of the Veteran Methodology FY17.

The FY15 Non Response Bias Reports are also attached. The FY16 reporting and Non Response Bias Reports will be made available upon completion.

Estimated Annual Burden: 32,701 hours per year for the life of the collection.

Estimated Average Burden per Respondent: 15 minutes.

Frequency of Response: Once Annually (Respondents will not be surveyed more than once in a given year.

Estimated Number of Respondents: 130,800

By direction of the Secretary.
Cynthia Harvey-Pryor,
Department of Veterans Affairs, Program Specialist (005R1B), Office of Privacy and Records Management, Office of Information Technology.

[FR Doc. 2016-30961 Filed 12-22-16; 8:45 am]

BILLING CODE 8320-01-P